DEPARTMENT OF THE TREASURY

Internal Revenue Service

26 CFR Part 1

[TD 9300]

RIN 1545-BC15

Guidance Necessary To Facilitate Business Electronic Filing; Correction

AGENCY: Internal Revenue Service (IRS), Treasury.

ACTION: Correction notice.

SUMMARY: This document contains a correction to final regulations (TD 9300) that were published in the Federal Register on Friday, December 8, 2006 (71 FR 71040) designed to eliminate regulatory impediments to the electronic filing of certain income tax returns and other forms.

DATES: The correction is effective December 8, 2006.

FOR FURTHER INFORMATION CONTACT: Nathan Rosen, (202) 622-4910(not a toll-free number).

SUPPLEMENTARY INFORMATION:

Background

The final regulations that are the subject of the correction are under sections 170, 556,565, 936, 1017, 1368, 1377, 1502, 1503, 6038B and 7701 of the Internal Revenue Code.

Need for Correction

As published, final regulations (TD 9300) contain an error that may prove to be misleading and is in need of clarification.

Correction of Publication

Accordingly, the publication of the final regulations (TD 9300), which were the subject of FR Doc. E6-20734, is corrected as follows:

On page 71045, in the signature block, the language “Approved: December 1, 2006.” is corrected to read “Approved: November 29, 2006.”.

LaNita Van Dyke,
Chief, Publications and Regulations Branch, Legal Processing Division,Associate Chief Counsel, (Procedure and Administration).

[FR Doc. E7-1691 Filed 2-1-07; 8:45 am]

BILLING CODE 4830-01-P